DEPARTMENT OF ENERGY

Federal Energy Regulatory Commission

[Docket Nos. ER17-718-000; ER17-721-000; ER17-729-000]

PJM Interconnection, L.L.C.; Midcontinent Independent System Operator, Inc.; PJM Interconnection, L.L.C.; Notice of Staff Workshop

Take notice that Federal Energy Regulatory Commission staff (Commission Staff) will hold a workshop on June 13, 2017, in room 3M-4 A and B at the Federal Energy Regulatory Commission, 888 First Street NE., Washington, DC 20426, from 9:00 a.m. to approximately 12:00 p.m. (Eastern Time). The workshop will discuss the Targeted Market Efficiency Project filings and will be limited to issues timely raised in the above-captioned dockets. Commission Staff will lead the workshop. Commissioners may participate in the workshop. Any party that wishes to make a statement at the workshop should indicate its interest by sending an email to that effect to matthew.christiansen@ferc.gov.

All interested persons may attend the workshop, and registration is not required. However, in-person attendees are encouraged to register on-line at https://www.ferc.gov/whats-new/registration/06-13-17-form.asp. Parties that would like to listen in by phone should register and indicate that preference. Dial-in information will be forwarded to those individuals prior to the event.

The workshop will be transcribed. Transcripts will be available for a fee from Ace Reporting Company ((202) 347-3700).

Commission conferences are accessible under section 508 of the Rehabilitation Act of 1973. For accessibility accommodations, please send an email to accessibility@ferc.gov or call toll free (866) 208-3372 (voice) or (202) 502-8659 (TTY), or send a FAX to (202) 208-2106 with the required accommodations.

For more information about the workshop, please contact:

Technical Information: Robert Sacknoff, Office of Energy Market Regulation, Federal Energy Regulatory Commission, 888 First Street NE., Washington, DC 20426, (202) 502-6758, robert.sacknoff@ferc.gov.

Technical Information: Jorge Moncayo, Office of Energy Market Regulation, Federal Energy Regulatory Commission, 888 First Street NE., Washington, DC 20426, (202) 502-6510, jorge.moncayo@ferc.gov.

Legal Information: Matthew Christiansen, Office of the General Counsel, Federal Energy Regulatory Commission, 888 First Street NE., Washington, DC 20426, (202) 502-6599, matthew.christiansen@ferc.gov.

Logistical Information: Sarah McKinley, Office of External Affairs, Federal Energy Regulatory Commission, 888 First Street NE., Washington, DC 20426, (202) 502-8368, sarah.mckinley@ferc.gov.

Dated: June 2, 2017.
Kimberly D. Bose,
Secretary.

[FR Doc. 2017-11919 Filed 6-7-17; 8:45 am]

BILLING CODE 6717-01-P